DEPARTMENT OF TRANSPORTATION

Federal Railroad Administration

Petition for Waiver of Compliance

In accordance with part 211 of title 49 Code of Federal Regulations (CFR), notice is hereby given that the Federal Railroad Administration (FRA) has received a request for a waiver of compliance from certain requirements of its safety standards. The individual petition is described below, including the party seeking relief, the regulatory provisions involved, the nature of the relief being requested, and the petitioner's arguments in favor of relief.

Metro-North Railroad

[Docket Number FRA-2007-0006]

The Metro-North Railroad (Metro-North) seeks a permanent waiver of compliance from certain specific requirements in the testing protocol of the Locomotive Safety Standards, 49 CFR 229.129(c), as it pertains to railroad locomotive horn testing. Metro-North seeks to utilize an acoustic enclosure specifically designed for the purpose of testing horns removed from the locomotives in lieu of the requirements required in 229.129(c)(4), (5) & (7). The data from the acoustic enclosure testing would be used to calculate the level to be expected at the location 100 feet in front of the locomotive as required under 229.129(c)(7). Metro-North has requested the Acoustical Society of America to work towards a new American National Standards Institute (ANSI) standard that supports the approach proposed by Metro-North.

In addition to the requested waiver of the technical requirements described above, Metro-North is also requesting an extension of 5 years to June 24, 2015, in which to complete the required testing of its approximately 1,098 train horns.

FRA's Safety Board (Board) did not grant the requested waiver of the June 24, 2010, deadline as a result of the original waiver petition. The Board did however invite Metro-North to resubmit that portion of the waiver request when the outcome of the alternative testing procedure was known and shown to be acceptable.

Metro-North has proceeded to fund the design, fabrication and pilot testing of the testing facility proposed subject to the previously granted conditional waiver. Metro-North has presented test data from the testing facility developed under the previous application that supports the technical validity of the procedure and wishes FRA to reconsider its application for an extension of 5 years to complete its efforts to have an ANSI standard adopted and submitted to FRA in support of its petition, and to complete the testing of its train horns in accordance with that standard.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2007-0006) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Communications received within 45 days of the date of this notice will be considered by FRA before final action is taken. Comments received after that date will be considered as far as practicable. All written communications concerning these proceedings are available for examination during regular business hours (9 a.m.—5 p.m.) at the above facility. All documents in the public docket are also available for inspection and copying on the Internet at the docket facility's Web site at http://www.regulations.gov.

Anyone is able to search the electronic form of any written communications and comments received into any of our dockets by the name of the individual submitting the document (or signing the document, if submitted on behalf of an association, business, labor union, etc.). You may review DOT's complete Privacy Act Statement in the Federal Register published on April 11, 2000 (65 FR 19477) or at http://www.dot.gov/privacy.html.

Issued in Washington, DC on May 6, 2010.
Grady C. Cothen, Jr.,
Deputy Associate Administrator for Safety Standards and Program Development.

[FR Doc. 2010-11206 Filed 5-11-10; 8:45 am]

BILLING CODE 4910-06-P